DEPARTMENT OF ENERGY

[Docket No. EA-98-J]

Application To Export Electric Energy; Western Systems Power Pool

AGENCY: Office Electricity Delivery and Energy Reliability, DOE.

ACTION: Notice of Application.

SUMMARY: The Western Systems Power Pool (WSPP) has applied, on behalf of certain of its members, to renew their authority to transmit electric energy from the United States to Canada pursuant to section 202(e) of the Federal Power Act.

DATES: Comments, protests or requests to intervene must be submitted on or before September 22, 2006.

ADDRESSES: Comments, protests, or requests to intervene should be addressed as follows: Office Electricity Delivery and Energy Reliability (Mail Code OE-20), U.S. Department of Energy, 1000 Independence Avenue, SW., Washington, DC 20585-0350 (FAX 202-586-5860).

FOR FURTHER INFORMATION CONTACT: Ellen Russell (Program Office) 202-586-9624 or Michael Skinker (Program Attorney) 202-586-2793.

SUPPLEMENTARY INFORMATION: Exports of electricity from the United States to a foreign country are regulated and require authorization under section 202(e) of the Federal Power Act (FPA) (16 U.S.C. 824a(e)).

On September 5, 1996, in docket EA-98-C, the Office of Fossil Energy (FE) of the Department of Energy (DOE) authorized 42 members of the WSPP to export electric energy to Canada. In several subsequent proceedings in the EA-98 docket, the list members authorized to export was modified to add, delete, or reflect corporate name changes. The most recent order in the docket, EA-98-I, was issued on August 6, 2002, and authorized 26 WSPP member companies individually to transmit electric energy to Canada. The international transmission facilities utilized for these exports are owned by the Bonneville Power Administration, also a WSPP member. The facilities consist of two 500-kV transmission lines and one 230-kV transmission line that interconnect with facilities of BC Hydro, and one 230-kV line that interconnects with West Kootenay Power, Limited. The construction and operation of these international transmission facilities was previously authorized by Presidential Permits PP-10, PP-46, and PP-36, respectively. The current WSPP authorization to export electric energy to Canada will expire on September 5, 2006.

On August 1, 2006, WSPP submitted an application on behalf of 13 member companies to renew the export authority contained in Order EA-98-I. The following WSPP member companies are the only WSPP members that now seek authorization to export electric energy to Canada: Avista Corporation; Candela Energy Corporation; Edison Mission Marketing and Trading, Inc.; Idaho Power Company; Kansas City Power & Light; Northern States Power Company; Pacific Northwest Generating Cooperative; PacifiCorp; Powerex Corporation; Portland General Electric Company; Public Service of Colorado; Puget Sound Energy; and TransCanada Energy Ltd.

WSPP has also requested DOE expedite the processing of its application in order to avoid a lapse in the export authority of its members. Accordingly, DOE has shortened the public comment period to 15 days.

Procedural Matters: Any person desiring to become a party to this proceeding or to be heard by filing comments or protests to this application should file a petition to intervene, comment or protest at the address provided above in accordance with §§ 385.211 or 385.214 of the Federal Energy Regulatory Commission's Rules of Practice and Procedures (18 CFR 385.211, 385.214). Fifteen copies of each petition and protest should be filed with DOE on or before the date listed above.

Comments on the WSPP application to export electric energy to Canada should be clearly marked with Docket EA-98-J. Additional copies are to be filed directly with Michael E. Small, General Counsel to the WSPP and Matthew K. Segers, Associate, Wright & Talisman, P.C., 1200 G Street, NW., Suite 600, Washington, DC 20005-3802.

A final decision will be made on this application after the environmental impacts have been evaluated pursuant to the National Environmental Policy Act of 1969, and a determination is made by DOE that the proposed action will not adversely impact on the reliability of the U.S. electric power supply system.

Copies of this application will be made available, upon request, by emailing Odessa Hopkins at odessa.hopkins@hq.doe.gov.

Issued in Washington, DC, on August 30, 2006.
Anthony J. Como,
Director, Permitting and Siting, Office of Electricity Delivery and Energy Reliability.

[FR Doc. E6-14798 Filed 9-6-06; 8:45 am]

BILLING CODE 6450-01-P